DEPARTMENT OF TRANSPORTATION

Pipeline and Hazardous Materials Safety Administration

[PHMSA-2016-0009] NEXUS Gas Transmission, L.L.C.; [PHMSA-2016-0072] Magellan Midstream Partners, L.P.; Pipeline Safety: Requests for Special Permit

AGENCY: Pipeline and Hazardous Materials Safety Administration (PHMSA), DOT.

ACTION: Notice and extension of comment period.

SUMMARY: The Pipeline and Hazardous Materials Safety Administration (PHMSA) is extending the public comment period by 60 days for two special permit requests and to announce that the Draft Environmental Assessment (DEA) for each request is now available in the respective docket for review and comments. At the conclusion of the extended comment period, PHMSA will review the comments received for each notice as part of its evaluation to grant or deny the special permit requests.

DATES: Submit any comments regarding either of these special permit requests by October 16, 2017.

ADDRESSES: You may submit comments by the following methods:

• Federal eRulemaking Portal: http://www.regulations.gov. Follow the online instructions for submitting comments.

• Fax: 1-202-366-4566.

• Mail or Hand Delivery: Docket Management System: U.S. Department of Transportation, Docket Operations, M-30, West Building Ground Floor, Room W12-140, 1200 New Jersey Avenue SE., Washington, DC 20590, between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard showing the special permit number. Comments should reference the docket number for the specific special permit request and may be submitted in the following ways:

Note: Comments including any personal information provided, are posted without changes or edits to http://www.regulations.gov. There is a privacy statement published on http://www.regulations.gov.

FOR FURTHER INFORMATION CONTACT:

General: Ms. Kay McIver by telephone at (202) 366-0113, or by email at Kay.McIver@dot.gov.

Technical: Mr. Steve Nanney by telephone at (713) 628-7479, or by email at Steve.Nanney@dot.gov.

SUPPLEMENTARY INFORMATION: PHMSA has received two special permit requests from:

1. NEXUS Gas Transmission, L.L.C. (NEXUS), seeking a waiver from the Federal odorization regulations of 49 CFR 192.625, and

2. Magellan Midstream Partners, L.P., (Magellan) seeking a waiver from 49 CFR 195.432, to allow for a transitional staged breakout tank inspection schedule.

Notice of the special permits requests were published in the Federal Register on February 23, 2016, (81 FR 9075) and September 12, 2016, (81 FR 62796), respectively. The special permit requests include a technical analysis and DEA provided by the operators and are available at http://www.regulations.gov under their assigned docket numbers. We invite interested persons to participate by reviewing the special permit requests and DEAs and submitting written comments, data, or other views. Please include any comments on potential safety and environmental impacts that may result if each special permit is granted.

Before issuing a decision on the special permit requests, PHMSA will evaluate all comments received on or before the comments closing date. Comments received after the closing date will be evaluated if it is possible to do so without incurring additional expense or delay. PHMSA will consider each relevant comment we receive in making our decision to grant or deny the requests.

Issued in Washington, DC, on August 10, 2017, under authority delegated in 49 CFR 1.97.
Alan K. Mayberry,
Associate Administrator for Pipeline Safety.

[FR Doc. 2017-17213 Filed 8-14-17; 8:45 am]

BILLING CODE 4910-60-P